SECURITIES AND EXCHANGE COMMISSION

Sunshine Act Meetings

FEDERAL REGISTER CITATION OF PREVIOUS ANNOUNCEMENT: 83 FR 55210, November 2, 2018.

PREVIOUSLY ANNOUNCED TIME AND DATE OF THE MEETING: Tuesday, November 6, 2018.

CHANGES IN THE MEETING: The following matter will also be considered during the 1:30 p.m. Closed Meeting scheduled for Tuesday, November 6, 2018:

Report on an examination

CONTACT PERSON FOR MORE INFORMATION: For further information and to ascertain what, if any, matters have been added, deleted or postponed, please contact the Office of the Secretary at (202) 551-5400.

Dated: November 2, 2018.
Brent J. Fields,
Secretary.

[FR Doc. 2018-24404 Filed 11-5-18; 11:15 am]

BILLING CODE 8011-01-P